COMMISSION ON CIVIL RIGHTS

Notice of Public Meeting of the Commonwealth of the Northern Mariana Islands Advisory Committee; Cancellation

AGENCY: Commission on Civil Rights.

ACTION: Notice; cancellation of virtual business meeting.

SUMMARY: The Commission on Civil Rights published a notice in the Federal Register concerning a virtual business meeting of the Commonwealth of the Northern Mariana Islands Advisory Committee. The meeting scheduled for Friday, February 10, 2023, at 8:30 a.m. (ChST) is cancelled. The notice is in the Federal Register of Friday, November 4, 2022, in FR Doc. 2022-24056 in the first, second, and third columns of page 66641.

FOR FURTHER INFORMATION CONTACT: Liliana Schiller, lschiller@usccr.gov, (202) 770-1856.

Dated: January 20, 2023.
David Mussatt,
Supervisory Chief, Regional Programs Unit.

[FR Doc. 2023-01518 Filed 1-25-23; 8:45 am]

BILLING CODE P